DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: HRSA Office of Performance Review (OPR) Leading Practices Data Collection Initiative—NEW

HRSA conducts performance reviews to assure that HRSA-funded grantees are successfully accomplishing their program purposes. While the Office of Performance Review's (OPR) primary function is to conduct performance reviews, another core function is to identify leading practices through the performance review process. The purpose of this submission is to collect qualitative information from diverse grantees across HRSA and identify a program component (activity, strategy, process, or intervention) that has been shown to work effectively, and produce successful outcomes, supported by objective and/or subjective data sources. Some characteristics of the program components that grantees will be asked to describe are their ability to be replicable and adaptable, ability to be documented, and ability to lead to successful program outcomes.

In order to document and evaluate leading practices, grantees with potential leading practices will be asked to complete both the Data Collection Tool and the Narrative. The information collected through these documents will be submitted to OPR. The estimated annual burden is as follows:

Form | Number of respondents | Responses per respondent | Total responses | Hours per response | Total burden hours
Data Collection Tool | 40 | 1 | 40 | 3 | 120
Narrative | 40 | 1 | 40 | 3 | 120
Total |  |  |  |  | 240

E-mail comments to paperwork@hrsa.gov or mail the HRSA Reports Clearance Officer, Room 10-33, Parklawn Building, 5600 Fishers Lane, Rockville, MD 20857. Written comments should be received within 60 days of this notice.

Dated: February 24, 2009.
Alexandra Huttinger,
Director, Division of Policy Review and Coordination.

[FR Doc. E9-4459 Filed 3-2-09; 8:45 am]

BILLING CODE 4165-15-P